DEPARTMENT OF HEALTH AND HUMAN SERVICES

Centers for Medicare & Medicaid Services

[Document Identifiers: CMS-1561, CMS-R-216, and CMS-R-262]

Agency Information Collection Activities: Submission for OMB Review; Comment Request

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments on the collection(s) of information must be received by the OMB desk officer by February 18, 2014:

ADDRESSES: When commenting on the proposed information collections, please reference the document identifier or OMB control number. To be assured consideration, comments and recommendations must be received by the OMB desk officer via one of the following transmissions: OMB, Office of Information and Regulatory Affairs, Attention: CMS Desk Officer, Fax Number: (202) 395-5806 OR, Email: OIRA_submission@omb.eop.gov.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Extension of a currently approved collection; Title of Information Collection: Health Insurance Benefit Agreement; Use: Applicants to the Medicare program are required to agree to provide services in accordance with federal requirements. The CMS-1561 is essential in that is allows us to ensure that applicants are in compliance with the requirements. Applicants will be required to sign the completed form and provide operational information to us to assure that they continue to meet the requirements after approval. Form Number: CMS-1561 (OCN: 0938-0832); Frequency: Yearly; Affected Public: Private sector—(Business or other for-profits and Not-for-profit institutions); Number of Respondents: 3,000; Total Annual Responses: 3,000; Total Annual Hours: 500. (For policy questions regarding this collection contact Shonte Carter at 410-786-3532).

2. Type of Information Collection Request: Extension of a currently approved collection; Title of Information Collection: Procedures for Advisory Opinions Concerning Physicians' Referrals and Supporting Regulations; Use: The information collection requirements contained in 42 CFR 411.372 and 411.373 allow us to consider requests for advisory opinions and provide accurate and useful opinions. The information is read and analyzed to develop and issue an advisory opinion to the individual or entity that submitted the information. Form Number: CMS-R-216 (OCN: 0938-0714); Frequency: Occasionally; Affected Public: Private sector (Business or other for-profits and Not-for-profit institutions); Number of Respondents: 25; Total Annual Responses: 25; Total Annual Hours: 500. (For policy questions regarding this collection contact Jacqueline Proctor at 410-786-0661).

3. Type of Information Collection Request: Revision of a currently approved collection; Title of Information Collection: CY 2015 Plan Benefit Package (PBP), Formulary, and Supporting Regulations; Use: We require Medicare Advantage and Prescription Drug Plan organizations submit a completed plan benefit package (PBP) and formulary as part of the annual bidding process. During this process, organizations prepare their proposed plan benefit packages for the upcoming contract year and submit them to us for review and approval. We publish beneficiary education information using a variety of formats. Specific education initiatives that utilize PBP and formulary data include web application tools on medicare.gov and the plan benefit insert in the Medicare & You handbook. In addition, organizations utilize the PBP data to generate their Summary of Benefits marketing information. The package has been revised subsequent to the publication of the 60-day Federal Register notice (78 FR 65656); Form Number: CMS-R-262 (OCN: 0938-0763); Frequency: Yearly; Affected Public: Private sector (Business or other for-profits and Not-for-profit institutions); Number of Respondents: 652; Total Annual Responses: 6,265; Total Annual Hours: 57,477. (For policy questions regarding this collection contact Kristy Holtje at 410-786-2209).

Dated: January 14, 2014.
Martique Jones,
Deputy Director, Regulations Development Group, Office of Strategic Operations and Regulatory Affairs.

[FR Doc. 2014-00915 Filed 1-16-14; 8:45 am]

BILLING CODE 4120-01-P